DEPARTMENT OF ENERGY

Federal Energy Regulatory Commission

[Project No. 2188-271]

Northwestern Corporation; Notice of Application Accepted for Filing and Soliciting Comments, Motions To Intervene, and Protests

Take notice that the following hydroelectric application has been filed with the Commission and is available for public inspection:

a. Application Type: Temporary Variance of Article 403.

b. Project No: 2188-271.

c. Date Filed: April 29, 2022.

d. Applicant: Northwestern Corporation (licensee).

e. Name of Project: Missouri-Madison Hydroelectric Project.

f. Location: The project consists of nine hydroelectric developments located on the Madison and Missouri Rivers in Gallatin, Madison, Lewis and Clark, and Cascade counties, Montana.

g. Filed Pursuant to: Federal Power Act, 16 U.S.C. 791a-825r.

h. Applicant Contact: Mary Gail Sullivan, Director, Environmental and Lands, Northwestern Corporation, 11 East Park Street, Butte, Montana, 59701, (406) 497-3382, marygail.sullivan@northwestern.com.

i. FERC Contact: Holly Frank, (202) 502-6833, Holly.Frank@ferc.gov.

j. Deadline for filing comments, motions to intervene, and protests: June 13, 2022.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2188-271. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensee requests a temporary variance from the minimum flow requirements for the Hebgen and Madison developments, to occur from June 15, 2022 to April 15, 2023, due to the severe drought conditions in the Madison River watershed. Section (3) of Article 403 for the Hebgen Development requires the licensee to limit changes in outflow from Hebgen Dam to no more than 10 percent per day for the entire year. The licensee requests a temporary variance allowing changes in outflow from Hebgen Dam to no more than 5 percent hourly for flow increases; the 10 percent daily limit would remain unchanged for flow decreases. Section (5) of Article 403 for the Madison Development requires ramping rates for flows in the Madison bypass reach, such that flows must not be reduced by more than 100 cfs per hour from 600 cfs to minimum flow (which varies seasonally between 80-200 cfs, as required in Section (4) of Article 403 for the Madison Development), and not increased by more than 100 cfs per hour when flows are 600 cfs or less (except when needed to meet the 1,100-cfs minimum flow below the powerhouse as required in Section (2) of Article 403 for the Madison Development, or to avoid overfilling Ennis Lake). The licensee will maintain the required ramping rate for flow reductions to minimize biological effects, but requests a temporary variance to remove the ramping rate of 100 cfs per hour for flow increases when the bypass flow is less than 600 cfs. The temporary variance would allow the licensee to make larger flow changes more quickly, which contributes to water conservation goals by limiting small increases of Hebgen and Madison dam outflows over longer durations in advance of forecasted needs of increased water downstream. The proposed temporary variance measures, in combination with the temporary minimum flow reductions completed in April 2022, would reduce the drafting of Hebgen Reservoir and support higher Hebgen Reservoir elevations longer into the recreation season. The duration of the temporary variance, from June 15, 2022 to April 15, 2023, would allow for water savings that ensure water availability through the pulse flow season to protect fishery resources in the lower Madison River and allow for flow changes during the fall/winter period.

l. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: May 12, 2022.
Debbie-Anne A. Reese,
Deputy Secretary.

[FR Doc. 2022-10677 Filed 5-17-22; 8:45 am]

BILLING CODE 6717-01-P